INTERNATIONAL TRADE COMMISSION

[Inv. No. 337-TA-521]

In the Matter of Certain Voltage Regulator Circuits, Components Thereof and Products Containing Same; Notice of Decision Not To Review an Initial Determination Extending the Target Date for Completion of the Investigation

AGENCY: U.S. International Trade Commission.

ACTION: Notice.

SUMMARY: Notice is hereby given that the U.S. International Trade Commission has determined not to review an initial determination (“ID”) issued by the presiding administrative law judge (“ALJ”) on August 10, 2005, extending the target date for completion of the above-captioned investigation to June 14, 2006.

FOR FURTHER INFORMATION CONTACT: Michael K. Haldenstein, Esq., Office of the General Counsel, U.S. International Trade Commission, 500 E Street, SW., Washington, DC 20436, telephone 202-205-3115. Copies of the public version of the IDs and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On August 17, 2004, the Commission instituted an investigation under section 337 of the Tariff Act of 1930, 19 U.S.C. 1337, based on a complaint filed by Linear Technology Corporation of Milpitas, California (“Linear”) alleging a violation of section 337 in the importation, sale for importation, and sale within the United States after importation of certain voltage regulator circuits, components thereof and products containing same by reason of infringement of claims 1-6, 31, 34-35, 41, 44-48, and 51-57 of U.S. Patent No. 5, 481,178 (“the “178 patent”), and claims 1-19, 31, 34, and 35 of U.S. Patent No. 6,580,258. 69 FR 51104 (August 17, 2004). The complainant named Monolithic Power Systems, Inc. of Los Gatos, California as respondent.

On March 16, 2005, the ALJ issued an initial determination (“ID”) (Order No. 12) extending the target date in the above-referenced investigation. The extension of the target date was necessary due to the previous postponement of the hearing due to the unavailability of witnesses. The ALJ determined that the target date for this investigation should be set at 18 months from institution, i.e., February 17, 2006. No party petitioned for review of the ID, the Commission declined to review it, and it therefore became the determination of the Commission.

The hearing, which had been scheduled to commence on June 22, 2005, could not be held as scheduled. The ALJ issued Order No. 15 on July 27, 2005, rescheduling the hearing for October 5, 2005. On August 10, 2005, the ALJ issued an ID (Order No. 6) extending the target date for completion of the investigation until June 14, 2006.

No party petitioned for review of the ID and the Commission has determined not to review the ID, permitting it to become the determination of the Commission.

The authority for the Commission's determination is contained in section 337 of the Tariff Act of 1930, as amended (19 U.S.C. 1337), and in section 210.42 of the Commission's Rules of Practice and Procedure (19 CFR 210.42).

Issued: August 31, 2005.
By order of the Commission.
Marilyn R. Abbott,
Secretary to the Commission.

[FR Doc. 05-17739 Filed 9-7-05; 8:45 am]

BILLING CODE 7020-02-P